NATIONAL FOUNDATION ON THE ARTS AND THE HUMANITIES

National Endowment for the Arts

30-Day Notice for the “Creative Forces®: NEA Military Healing Arts Network Community Arts Engagement Subgranting Program Evaluation Forms” Proposed Collection; Comment Request

AGENCY: National Endowment for the Arts.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format; reporting burden (time and financial resources) is minimized; collection instruments are clearly understood; and the impact of collection requirements on respondents can be properly assessed. Currently, the National Endowment for the Arts is soliciting comments concerning the proposed information collection through a mixed-methods evaluation of the Creative Forces®: NEA Military Healing Arts Network Community Arts Engagement Grant Program. The evaluation uses primary and secondary data, and includes interviews, case study site visits, a Participant Survey for individuals who participate in community arts programs, and an Arts Engagement Facilitator Survey for those leading the arts activities. Copies of this ICR, with applicable supporting documentation, may be obtained by visiting www.Reginfo.gov.

DATES: Written comments must be submitted to the office listed in the address section below within 30 days from the date of this publication in the Federal Register.

ADDRESSES: Written comments and recommendations for the proposed information collection should be sent within 30 days from the date of publication of this Notice to www.reginfo.gov/public/do/PRAMain. Find this particular information collection by selecting, “National Endowment for the Arts” under “Currently Under Review;” then check “Only Show ICR for Public Comment” checkbox. Once you have found this information collection request, select “Comment,” and enter or upload your comment and information.

Alternatively, comments can be sent to the Office of Information and Regulatory Affairs, Attn: OMB Desk Officer for the National Endowment for the Arts, Office of Management and Budget, Room 10235, Washington, DC 20503, or call (202) 395-7316, within 30 days from the date of this publication in the Federal Register.

SUPPLEMENTARY INFORMATION: The Office of Management and Budget (OMB) is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, e.g., permitting electronic submission of responses.

Title: `Creative Forces®: NEA Military Healing Arts Network Community Arts Engagement Subgranting Program Evaluation Forms'.

OMB Number: 3135-0146.

Type of Review: Regular.

Frequency: One time program evaluation.

Affected Public: Grantees and participants/attendees of Creative Forces Community Engagement Programs.

Estimated Number of Respondents: 618 annually including grantees, partners, arts engagement facilitators, and program participants.

Estimated Annual Time per Respondent (Hours): 0.25.

Total Annual Burden Hours: 265.

Total Annualized Capital/Startup Costs: 0.

Total Annual Costs (operating/maintaining systems or purchasing services): $99,533.

Description: The planned data collection is a new information collection request, and the data to be collected are not available elsewhere unless obtained through this information collection. This collection will include a pre-post Participant Survey, an Arts Engagement Facilitator Survey, and interviews with grantees, partners, arts engagement facilitators, and program participants. Data collection activities will occur with two grantee cohorts between July 2025 and July 2027. Evaluation results will provide actionable evidence to support current and future iterations of the grant program and Creative Forces Community Engagement (CFCE) grantees.

The Creative Forces®: NEA Military Healing Arts Network seeks to improve the health, well-being, and quality of life for military and veteran populations exposed to trauma, and for their families and caregivers through clinical and non-clinical programs (https://www.arts.gov/initiatives/creative-forces). Creative Forces is funded through Congressional appropriation. The Congressional Committee on Appropriation “supports the NEA's continued efforts to expand upon this successful program to embed Creative Arts Therapies at the core of integrative care efforts in clinical settings, advance collaboration among clinical and community arts providers to support wellness and reintegration efforts for affected families, and advance research to improve our understanding of impacts of these interventions in both clinical and community settings.”

Creative Forces is a key element for meeting the NEA's FY 2022-2026 Strategic Plan Strategic Objective 2.1: Support Arts Projects with a Focus on Advancing the Health and Well-Being of Individuals. As noted in this strategic objective, the CFCE Grant Program:

“. . . aims to improve the health, well-being, and quality of life for military-connected populations. . . The lessons learned from implementing Creative Forces will inform other strategies to advance individual health and well-being through the arts. The networking, technical assistance, and the evaluation and learning that occur across the Creative Forces program are typical of the field-building activities necessary to realize this strategic objective for broader population groups. At the federal level, the NEA models this knowledge transfer by leading the Interagency Task Force on the Arts and Human Development, which meets quarterly to examine research projects and evidence-based practice at the intersection of the arts, health, and human development.”

Having announced the CFCE program in 2020, Creative Forces began awarding Community Engagement Grants in 2022 to support non-clinical arts engagement programming for military-connected populations through matching grants of $10,000 to $50,000 for emerging (“Emerging”) and established (“Advanced”) community-based arts engagement projects to serve military-connected populations. The grant program supports a range of program models (e.g., ongoing class, drop-in studio, single event) designed to meet local needs. It is the largest coordinated effort in the U.S. to provide community arts engagement programming for military and veteran populations exposed to trauma, and for their families and caregivers. The Creative Forces Community Engagement Grant Program is conducted in partnership with Mid-America Arts Alliance (M-AAA).

This is a new Information Collection Request for data collection across two grantee cohorts from July 2025 to July 2027. The evaluation uses a mixed-methods approach, incorporating quantitative and qualitative data from primary and secondary sources. The evaluation will incorporate data from all grantees.

Dated: June 4, 2025.
RaShaunda Thomas,
Deputy Director, Office of Administrative Services & Contracts, National Endowment for the Arts.

[FR Doc. 2025-10412 Filed 6-6-25; 8:45 am]

BILLING CODE 7537-01-P